DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of October 25, 2010 through October 29, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1- year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
73,272 | Schott North America, Inc., Advanced Optics, Leased Workers Adecco USA, Manpower and ERG Staffing Service | Duryea, PA | January 11, 2009.
73,574 | Kohler Company, Generator, Brass, Engine, and Pottery Divisions; Leased Workers Manpower | Kohler, WI | February 13, 2010.
73,574A | Sauk Technologies, Generator Division | Saukville, WI | February 13, 2010.
73,754 | Andersen Distribution, Inc., Andersen Corp., Andersen Logistics, Leased Workers Ameritemps, Prologisticxs | Birch Run, MI | March 19, 2009.
73,895 | Idaho Timber of Kansas, LLC, Leucadia National Corporation Including Express Employment Professionals | Halstead, KS | April 8, 2009.
74,111 | Alstom Transportation, Inc., Transport, 1 Shamut Drive | Hornell, NY | May 14, 2009.
74,222 | Midwest Stamping, LLC, Subdivision of The Brown Co. America, LLC, Leased Workers from Roper Staffing | Sumter, SC | June 1, 2009.
74,328 | Como Textile | Paterson, NJ | June 23, 2009.
74,637 | Parker Hosiery Company, Inc | Old Fort, NC | September 12, 2010.
74,690 | Mount Vernon Mills, Inc | Mauldin, SC | September 29, 2009.

The following certifications have been issued. The requirements of Section 222(a)(2)(B) (shift in production or services) of the Trade Act have been met.

TA-W No. | Subject firm | Location | Impact date
73,523 | Vertis Communications, 34-Minneapolis Premedia | Minneapolis, MN | January 31, 2009.
73,797 | Outotec (USA), Inc | Centennial, CO | March 26, 2009.
73,804 | International Business Machines (IBM), Database Administrators, Working on the AT&T Contract | San Ramon, CA | March 24, 2009.
73,911 | Electronic Data Systems/HP Enterprise Services,, Working On-Site at Phoenix Life and Annuity Company | Hartford, CT | April 14, 2009.
73,988 | International Business Machines (IBM), Integrated Tech. Services, Info Mgt, Off-Site Teleworkers | Armonk, NY | March 1, 2009.
74,240 | Baker Hughes Oilfield Operations, Leased Workers from Kelly Services | Broussard, LA | June 8, 2009.
74,316 | International Business Machines (IBM), Global Tech Serv., Server Systems, IC1, Storage, Backup | Lexington, KY | June 10, 2009.
74,316A | International Business Machines (IBM), Global Tech Serv., Server Systems, IC1, Storage, Backup | Cambridge, MA | June 10, 2009.
74,316B | International Business Machines (IBM), Global Tech Serv., Server Systems, IC1, Storage, Backup | Lansing and Midland, MI | June 10, 2009.
74,316C | International Business Machines (IBM), Global Tech Serv., Server Systems, IC1, Storage, Backup | Hazelwood, MO | June 10, 2009.
74,316D | International Business Machines (IBM), Global Tech Serv., Server Systems, IC1, Storage, Backup | Piscataway, NJ | June 10, 2009.
74,316E | International Business Machines (IBM), Global Tech Serv., Server Systems, IC1, Storage, Backup | Research Triangle Park, NC | June 10, 2009.
74,316F | International Business Machines (IBM), Global Tech Serv., Server Systems, IC1, Storage, Backup | Columbia, SC | June 10, 2009.
74,507 | Hanesbrands, Inc., Weeks Operations Div., Leased Workers Security Forces, Debbie Staffing, etc | Winston-Salem, NC | September 14, 2009.
74,613 | Aastra USA, Inc., Aastra Technologeis Ltd., Leased Workers from John Galt Staffing | Billerica, MA | September 3, 2009.
74,644 | DORMA Door Controls, Inc., Dorma Vertrieb International GMBH | Reamstown, PA | September 16, 2009.
74,663 | Stanley Black and Decker, Formerly Stanley Bostich, CDIY Division | Jackson, TN | September 24, 2009.
74,686 | Diebold Software Solutions, A Division of Diebold, Inc., Leased Workers from Technisource, Inc | Raleigh, NC | September 24, 2009.
74,712 | Xerox Corporation, Human Resource Services Center, On-Site Leased Workers from Manpower, etc | Lewisville, TX | October 13, 2009.
74,717 | Borders, Inc., Customer Contact Center | LaVergne, TN | October 6, 2009.
74,726 | Weldco-Beales Manufacturing | Tacoma, WA | October 12, 2009.
74,740 | Bekaert Corporation, Bekaert Progressive Composites, Leased Wkrs Select Staffing and Caltek | Vista, CA | October 14, 2009.
74,743 | Sensata Technologies, Inc., Accounts Payable, Accounts Receivable, Leased Workers Olsten Staffing Services | Attleboro, MA | October 15, 2009.
73,622 | Kilburn's Plating Company, Inc., Leased Workers from Business Personnel Solutions | Adamsville, TN | February 25, 2009.
74,111A | Alstom Transportation, Inc., Transport, 1 Transit Drive | Hornell, NY | May 14, 2009.

The following certifications have been issued. The requirements of Section 222(c) (downstream producer for a firm whose workers are certified eligible to apply for TAA) of the Trade Act have been met.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
74,245 | Omya, Inc | Cincinnati, OH |
74,364 | International Business Machines (IBM), Sales and Distribution Unit, Global Sales, Off-Site Teleworker | Centerport, NY |
74,554 | International Business Machines (IBM), Software Group Business Unit, Optim Data Studio | San Francisco, CA |
74,758 | IMI Cornelius, Inc., Beverage Dispense | Mason City, IA |

The investigation revealed that the criteria under paragraphs (a)(2)(A)(i) (decline in sales or production, or both) and (a)(2)(B) (shift in production or services to a foreign country) of section 222 have not been met.

TA-W No. | Subject firm | Location | Impact date
74,152 | NSC Smelter, LLC, D/B/AColumbia Gorge Aluminum, Golden Northwest Aluminum Holding Co. | Goldendale, WA |
74,152A | Northwest Aluminum Company, Golden Northwest Aluminum Holding Co. | The Dalles, OR |

The investigation revealed that the criteria under paragraphs (a)(2)(A) (increased imports) and (a)(2)(B) (shift in production or services to a foreign country) of section 222 have not been met.

TA-W No. | Subject firm | Location | Impact date
73,752 | Industrial Metal Products Corporation | Lansing, MI |
73,876 | Lorik Tool, Inc | Lawrenceburg, TN |
74,120 | Graphics Microsystems, Inc | Rockwall, TX |
74,590 | Quad/Graphics, Corinth Division, Leased Workers of Wise Staffing Services | Corinth, MS |
74,660 | Mid-Continent Distributors, Inc., Glazer's Wholesale Drug Company, Inc. | Springfield, MO |

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
74,047 | Stever-Locke Industries | Honeoye Falls, NY |
74,655 | Temp Depot, Leased Worker for Fortune Fashion | Vernon, CA |

The following determinations terminating investigations were issued because the petitioning groups of workers are covered by active certifications. Consequently, further investigation in these cases would serve no purpose since the petitioning group of workers cannot be covered by more than one certification at a time.

TA-W No. | Subject firm | Location | Impact date
73,902 | Premier Manufacturing Support Services, Working On-Site at General Motors | Lake Orion, MI |
74,667 | International Business Machines Corporation (IBM), Global Technology Services Delivery Division; Off-Site Teleworkers | Boulder, CO |

The following determinations terminating investigations were issued because the petitions are the subject of ongoing investigations under petitions filed earlier covering the same petitioners.

TA-W No. | Subject firm | Location | Impact date
74,508 | Hanesbrands, Inc., Oak Summit Complex, Weeks Operations Division | Winston-Salem, NC |
74,512 | Masco Retail Cabinet Group, LLC, Value Products Group Division | Seal Township, OH |
74,513 | Masco Retail Cabinet Group, LLC, Value Products Group Division | Seaman, OH |

I hereby certify that the aforementioned determinations were issued during the period of October 25, 2010 through October 29, 2010. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: November 5, 2010.
Michael W. Jaffe,
Certifying Officer, Division of Trade Adjustment Assistance.

[FR Doc. 2010-28995 Filed 11-16-10; 8:45 am]

BILLING CODE 4510-FN-P